DEPARTMENT OF THE INTERIOR

National Park Service

Draft Environmental Impact Statement/Comprehensive Management Plan; Ala Kahakai National Historic Trail County of Hawaii, State of Hawaii; Notice of Availability

SUMMARY: Pursuant to § 102(2)(C) of the National Environmental Policy Act of 1969 (Pub. L. 91-190, as amended), and the Council on Environmental Quality Regulations (40 CFR part 1500-1508), the National Park Service, Department of the Interior, has prepared a Draft Comprehensive Management Plan and programmatic Environmental Impact Statement identifying and evaluating two alternatives to current administration and management of the Ala Kahakai National Historic Trail. These alternatives respond to the National Trails System Act (16 U.S.C. 1241-1251), NPS planning requirements, and the issues identified during public scoping. They address trail administration and management, cultural and natural resource protection, and use of the trail by local residents, Native Hawaiians, and the visiting public.

When approved, the comprehensive management plan will guide, for approximately 15 years, the National Park Service in administering, preserving, protecting, developing, managing, and maintaining the 175-mile trail which includes portions of the ancient and historic ala loa (long trail; coastal trail around the island). The EIS compares baseline conditions of a “no action” alternative with potential impacts and two “action” alternatives and, where appropriate, suggests mitigation measures to reduce the intensity of the potential effect or to avoid the potential effect. Three other preliminary alternatives were considered but rejected because they did not achieve the objectives of the plan or were infeasible. An “environmentally preferred” alternative is also identified.

Background: The National Park Service (NPS) administers the Ala Kahakai National Historic Trail (NHT), added to the National Trails System by the U.S. Congress on November 13, 2000. The legislation authorizing the Ala Kahakai NHT identifies an approximately 175-mile portion of prehistoric ala loa (long trail) and other trails on or parallel to the seacoast extending from Upolu Point on the north tip of Hawaii Island down the west coast of the island around South Point to the east boundary of Hawaii Volcanoes National Park. The Ala Kahakai NHT combines surviving elements of the ancient ala loa with segments of later government trails (alanui aupuni), which developed on or parallel to the traditional routes, and more recent pathways and roads that create links between the historic segments.

The purposes of the Ala Kahakai NHT, derived from the legislative history, the Feasibility Study, and the public scoping phase completed in 2003, are to:

• Preserve, protect, reestablish as necessary, and maintain a substantial portion of the ancient ala loa and associated resources and values, along with linking trails on or parallel to the shoreline on Hawaii Island, and

• Provide for a high quality experience, enjoyment, and education (guided by Native Hawaiian protocol and etiquette) while protecting the trail's natural and cultural heritage and respecting private and community interest.

Federal ownership of the Ala Kahakai NHT is limited to the trail alignment within the four national parks it links: Pu'ukohola Heiau National Historic Site, Kaloko-Honokohau National Historical Park (NHP), Pu'uhonua o Honaunau NHP, and Hawaii Volcanoes National Park. Approximately 17% of the NHT is within the boundaries of these national parks. With trail authorization, these trail segments become federally protected components of the NHT, in compliance with § 3(a)(3) of the National Trails System Act.

The National Trails System Act, as amended, requires the preparation of a comprehensive management plan (CMP) for each new trail in the system. The CMP is intended to provide direction for natural and cultural resource preservation, education, and trail user experience of the Ala Kahakai NHT over the next 15 years. It considers the trail in its entirety. It identifies the necessity of community partnerships to protect trail resources and provide appropriate trail user services. As a partnership endeavor, the success of this plan is not solely determined by the NPS; rather its success rests with the will and preservation of other local government agencies, communities, organizations, neighborhood associations, and individuals who have the capacity and desire to implement actions within this plan.

Proposed Plan and Alternatives: Alternative C (both the agency-preferred as well as the “environmentally preferred” alternative), is based on the traditional Hawaiian trail system in which multiple trail alignments within the ahupua'a (mountain to sea land division) are integral to land use and stewardship. Within the planning period of 15 years, the goal would be to complete the linear trail within the priority zone from Kawaihae to Pu'uhonau o Honaunau NHP (73 miles) and to protect other segments outside of that area as feasible. In addition, on publicly-owned lands the Ala Kahakai NHT would include inland portions of the ala loa or other historic trails that run lateral to the shoreline and would be connected to ancient or historic mauka-makai (mountain to sea) trails that would have traditionally been part of the ahupua'a system. Through an agreement, the state of Hawaii could convey to the NPS a less-than-fee management interest in trail segments that are state-owned under the Highways Act of 1892 within the Ala Kahakai NHT corridor. The NPS would then be responsible for managing these segments and federal law would fully apply. However, in cooperation with the NPS, local communities of the ahupua'a would be encouraged to take responsibility for trail management using the traditional Hawaiian principles of land management and stewardship. The NPS would offer technical assistance and limited financial assistance to these management partners. Partnerships with state and county agencies, community organizations, and private individuals would help protect trail resources and provide appropriate trail user services. The Ala Kahakai Trail Association would be expected to be robust enough play a major part in trail management, promotion, and funding. An auto tour would be completed that would lead visitors to 18 sites associated with the trail.

Alternative A constitutes the “No Action” alternative, under which existing programs, facilities, staffing, and funding would generally continue at their current levels. The Ala Kahakai NHT would consist of trail segments within the four national parks through which it passes and only a few other segments, most likely on state lands. A continuous trail, as recommended in the Feasibility Study, would be the goal but would not be achievable, even in the long-term. An auto tour would be completed. Recreation along the trail and interpretation of its history would generally be limited to these sites.

Alternative B proposes the completion of a single continuous trail composed of unaltered or verified ancient and historic portions of the ala loa linked as needed by later pre-1892 trails, pathways, and modern connector trails. Within the planning period of 15 years, the goal would be to complete the linear trail within the priority zone from Kawaihae to Pu'uhonua o Honaunau NHP and to protect other segments outside of that area as feasible. In the long term, cultural and natural resources along the entire trail tread and agreed-upon adjacent areas would be protected and interpreted to the public. The NPS would administer the trail, but management outside of the national parks would remain with the land managing agency or landowner. The NPS would offer technical assistance and limited financial assistance to these management partners. Partnerships with state and county agencies, the Ala Kahakai Trail Association, community organizations, and private individuals would help protect trail resources and provide appropriate trail user services. An auto tour would be completed.

Scoping Summary: On April 4, 2003, the NPS published the Notice of Intent formally initiating the conservation planning and environmental impact analysis process for the Ala Kahakai NHT comprehensive management plan; the scoping period extended through June 28, 2003. Over 1,830 public scoping meeting announcements were mailed using an address list that included hiking enthusiasts affiliated with E Man Na Ala Held, various legislators, the Caleche-Hanukkah N.P. contact list, and interested individuals, organizations, and agencies that provided their contact information to the trail staff. The NPS advertised meetings in West Hawaii Today and Hawaii Tribune-Herald. Large signs were posted on meeting days in high-visibility areas on adjacent roadways and on buildings where the meetings were held to encourage walk-by and drive-by participation. Meeting announcements also appeared in the Ala Kahakai NHT and E Man Na Ala Held newsletters. Altogether nine open house scoping meetings were hosted between March 22 and June 28, 2003. At the meetings, attendees were encouraged to submit formal input through a Mana'o Form, a questionnaire about how the trail should be managed. A total of 200 people representing the general public, private landowners, trail advocacy groups, native Hawaiian organizations, and state, county, and federal agencies attended these meetings. About 25 Mana'o Forms were returned to the trail office. In addition, the planning team met with numerous individuals, community groups, private landowners, and government agency representatives to understand their concerns and visions for the Ala Kahakai NHT. Using the information for all these sources, the planning team prepared draft versions of the purpose and significance statements, management prescriptions, and management alternatives.

Between July 2003 and March 2004, the planning team developed five preliminary alternatives for future management based on information gained from the scoping process: No Action, Single Ala Kahakai Trail alternative, Ahupua'a Trail Systems alternative, Historic Trail Clusters alternative, and Public Lands alternative. The NPS provided a booklet to the public describing these alternatives and inviting comment. In addition, the NPS conducted nine public meetings between April 17 and June 19, 2004, to gather comments on the alternatives. The comment period for the draft alternatives closed on June 25, 2004. Subsequently the planning team prepared a draft alternatives document that eliminated alternative E because it was favored in public meetings only as a step to completing the entire trail. Eventually, alternative D was eliminated for the same reason.

In December 2006, to ensure that issues were properly stated and addressed, an internal review draft of this document was sent to the four national parks on Hawaii Island, other National Park Service reviewers, and reviewers in Hawaii who have been involved in the study process and have knowledge of the Ala Kahakai NHT. These reviewers' comments were incorporated into the public review draft.

Commenting On The Draft EIS: Six public workshops on the proposed plan will be hosted during the week of November 5-10, 2007 at various locations on the island of Hawaii. Locations, dates, and other workshop details will be advertised by direct mailing and notices placed in the local newspapers. All interested individuals, organizations, and agencies will be encouraged to participate and provide comments, suggestions, and additional information. All written comments must be postmarked not later than 60 days following publication in the Federal Register by EPA of their notice of filing of the Draft EIS (as soon as this date can be confirmed it will be announced on the park's Web site, and included in workshop mailings).

Written comments on the Draft EIS/CMP should be addressed to Superintendent, Ala Kahakai NHT, 73-4786 Kanalani Street, #14, Kailua-Kona, HI 96740. Questions at this time regarding the comprehensive management plan and EIS planning process or inquiries about public meetings should be addressed to the superintendent either by mail or by telephone at (805) 326-6012. The document will be sent directly to those who have requested it, and will also be available at the park headquarters and local libraries, or electronically at http://parkplanning.nps.gov/alka (an electronic public comment form is also provided at this Web site). Before including your address, phone number, e-mail address, or other personal identifying information in your comment, you should be aware that your entire comment—including your personal identifying information—may be made publicly available at any time. While you can ask us in your comment to withhold your personal identifying information from public review, we cannot guarantee that we will be able to do so.

Decision: Following careful analysis of public and agency comments on the Draft EIS, it is anticipated at this time that the final EIS would be available in winter of 2008. As a delegated EIS, the official responsible for the final decision is the Regional Director, Pacific West Region. A Record of Decision would not be prepared sooner than 30 days following release of the Final EIS/CMP; notice of the decision will be posted in the Federal Register and announced in local and regional newspapers. Following approval of the comprehensive management plan and EIS, the official responsible for undertaking implementation of the plan will be the Superintendent, Ala Kahakai National Historic Trail.

Dated: October 18, 2007.
George J. Turnbull,
Acting Regional Director, Pacific West Region.

[FR Doc. 07-5305 Filed 10-25-07; 8:45 am]

BILLING CODE 4312-52-M